DEPARTMENT OF DEFENSE

Office of the Secretary

Defense Business Board; Notice of Advisory Committee Meeting

AGENCY: Department of Defense, DoD.

ACTION: Notice of Advisory Committee Meeting.

SUMMARY: The Defense Business Board (DBB) will meet in open session on Wednesday, December 6, 2006 at the Pentagon, Washington, DC from 8:30 a.m. to 10:30 a.m. The mission of the DBB is to advise the Secretary of Defense on effective strategies for implementation of best business practices of interest to the Department of Defense. At this meeting, the Board will deliberate on recommendations formulated from the Board's review of past DBB reports. The focus of the meeting will be to provide actionable steps to bring prior DBB recommendations to fruition.

DATES: Wednesday, December 6, 2006, 8:30 a.m. to 10:30 a.m.

ADDRESSES: 1155 Defense Pentagon, Room 3C288, Washington, DC 20301-1155.

FOR FURTHER INFORMATION CONTACT: Members of the public who wish to attend the meeting must contact the Defense Business Board no later than Monday, December 4th for further information about escort arrangements in the Pentagon. Additionally, those who wish to provide input to the Board should submit written comments by Wednesday, November 29th to allow time for distribution to the Board members prior to the meeting. The DBB may be contacted at: Defense Business Board, 1155 Defense Pentagon, Room 3C288, Washington, DC 20301-1155, via e-mail at defensebusinessboard2@osd.mil or via phone at (703) 697-2168.

Dated: October 30, 2006.
L.M. Bynum,
Alternate OSD Federal Register Liaison Officer, Department of Defense.

[FR Doc. 06-9045 Filed 11-2-06; 8:45 am]

BILLING CODE 5001-06-M